DEPARTMENT OF HEALTH AND HUMAN SERVICES

Substance Abuse and Mental Health Services Administration

Fiscal Year (FY) 2024 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting a supplement in scope of the original award to the Community-Based, Advocacy-Focused, Data-Driven, Coalition-Building Association (CADCA) recipient funded in FY 2019 under the National Anti-Drug Coalitions Training and Workforce Development Grant Program (Short Title: Coalitions Training Grant), Notice of Funding Opportunity (NOFO) SP-19-002. The recipient may receive up to $562,500. The supplemental funding will extend the project period by 10-months until September 29, 2024 and will: leverage existing resources and conference support to expand SAMHSA's scope and capacity; and provide training and technical assistance to state and community prevention leaders, including members of anti-drug community coalitions from around the country who are committed to addressing the evolving needs of the behavioral health field. The training and workforce development activities supported through this grant include SAMHSA's Prevention Day and SAMHSA's participation in the annual National Leadership Forum and annual Mid-Year Training Institute of CADCA.

FOR FURTHER INFORMATION CONTACT: David Lamont Wilson, Public Health Analyst, Substance Abuse and Mental Health Services Administration, 5600 Fishers Lane, Rockville, MD 20857, telephone 240-276-2588; email: david.wilson@samhsa.hhs.gov.

SUPPLEMENTARY INFORMATION:

Funding Opportunity Title: FY 2019 National Anti-Drug Coalitions Training and Workforce Development Grant Program (Short Title: Coalitions Training Grant), Notice of Funding Opportunity SP-19-002.

Assistance Listing Number: 93.243.

Authority: The Coalitions Training Grant is authorized under sections 509, 516 and 520A of the Public Health Service Act, as amended.

Justification: Eligibility for this supplemental funding is limited to CADCA, which was funded in FY 2019 under the National Anti-Drug Coalitions Training and Workforce Development Grant Program (Short Title: Coalitions Training Grant). CADCA is the only national organization that provides training and technical assistance annually through a national leadership conference for thousands of members of community coalitions dedicated to preventing substance use. CADCA is currently the sole organization that plays a major role in helping to strengthen and develop the nation's prevention infrastructure of anti-drug coalitions in support of ongoing activities funded by SAMHSA's priority prevention grant programs. It is the only identified organization that currently meets this experience level and national reach to over 5,000 identified anti-drug coalitions across the country.

This is not a formal request for application. Assistance will only be provided to Coalitions Training Grant (CADCA) funded in FY 2019 based on the receipt of a satisfactory application and associated budget that is approved by a review group.

Dated: October 27, 2023.
Ann Ferrero,
Public Health Analyst.

[FR Doc. 2023-24125 Filed 10-31-23; 8:45 am]

BILLING CODE 4162-20-P